DEPARTMENT OF COMMERCE

International Trade Administration

[A-570-937; A-570-958; A-570-956; A-570-977; A-570-970; A-570-979; A-570-981]

Implementation of Determinations Under Section 129 of the Uruguay Round Agreements Act: Citric Acid and Citrate Salts From the People's Republic of China; Certain Coated Paper Suitable for High-Quality Print Graphics Using Sheet-Fed Presses From the People's Republic of China; Seamless Carbon and Alloy Steel Standard, Line, and Pressure Pipe From the People's Republic of China; High Pressure Steel Cylinders From the People's Republic of China; Multilayered Wood Flooring From the People's Republic of China; Certain Crystalline Silicon Photovoltaic Cells, Whether or Not Assembled Into Modules, From the People's Republic of China; Utility Scale Wind Towers From the People's Republic of China

AGENCY: Enforcement and Compliance, International Trade Administration, Department of Commerce.

SUMMARY: On August 4, 2015, the U.S. Trade Representative (USTR) instructed the Department of Commerce (Department) to implement its determinations under section 129 of the Uruguay Round Agreements Act (URAA) regarding the antidumping duty (AD) investigations on certain coated paper suitable for high-quality print graphics using sheet-fed presses from the People's Republic of China (PRC); seamless carbon and alloy steel standard, line, and pressure pipe from the PRC; high pressure steel cylinders from the PRC; multilayered wood flooring from the PRC; certain crystalline silicon photovoltaic cells, whether or not assembled into modules, from the PRC; and utility scale wind towers from the PRC; and regarding the AD administrative review of citric acid and citrate salts from the PRC, which renders them not inconsistent with the World Trade Organization (WTO) dispute settlement findings in the Appellate Body report on United States — Countervailing and Anti-dumping Measures on Certain Products from China, WT/DS449/AB/R (July 7, 2014), and the panel report, as modified by the Appellate Body report, WT/DS449/R (March 27, 2014), adopted by the WTO Dispute Settlement Body on July 22, 2014 (DS 449). The Department issued its final determinations in these section 129 proceedings between July 14, 2015, and July 31, 2015.¹ The Department is now implementing these final determinations.

¹ See Memoranda from Christian Marsh, Deputy Assistant Secretary for Antidumping and Countervailing Duty Operations to Paul Piquado, Assistant Secretary for Enforcement and Compliance, regarding: (1) Section 129 Proceeding (WTO DS449): Antidumping Duty Review of Citric Acid and Citrate Salts from the People's Republic of China—Final Determination (dated July 14, 2015); (2) Section 129 Proceeding (WTO DS449): Antidumping Duty Investigation of Certain Coated Paper Suitable for High-Quality Print Graphics Using Sheet-Fed Presses from the People's Republic of China—Final Determination (dated July 16, 2015); (3) Section 129 Proceeding (WTO DS449): Antidumping Duty Investigation of Seamless Carbon and Alloy Steel Standard, Line, and Pressure Pipe from the People's Republic of China—Final Determination (dated July 27, 2015); (4) Section 129 Proceeding (WTO DS449): Antidumping Duty Investigation of High Pressure Steel Cylinders from the People's Republic of China—Final Determination (dated July 16, 2015); (5) Section 129 Proceeding (WTO DS449): Antidumping Duty Investigation of Multilayered Wood Flooring from the People's Republic of China—Final Determination (dated July 14, 2015); (6) Section 129 Proceeding (WTO DS449): Antidumping Duty Investigation of Certain Crystalline Silicon Photovoltaic Cells, Whether or Not Assembled into Modules, from the People's Republic of China—Final Determination (dated July 31, 2015); and (7) Section 129 Proceeding (WTO DS449): Antidumping Duty Investigation of Utility Scale Wind Towers from the People's Republic of China—Final Determination (dated July 31, 2015).

DATES: Effective Date: August 4, 2015.

FOR FURTHER INFORMATION CONTACT: Lisa Wang or Erin Begnal, U.S. Department of Commerce, 14th Street and Constitution Avenue NW., Washington, DC 20230; telephone: (202) 482-5673 or (202) 482-1442.

SUPPLEMENTARY INFORMATION: On January 28, 2015, the Department informed parties that it was initiating proceedings under section 129 of the URAA to implement the findings adopted by the WTO Dispute Settlement Body in DS 449 with respect to the above-referenced AD investigations and administrative review. These proceedings concern the Department's imposition of ADs calculated on the basis of the methodology for nonmarket economy countries prescribed by section 773(c) of the Tariff Act of 1930 (the Act), as amended, concurrently with the imposition of countervailing duties upon the same products without having assessed whether so-called “double remedies,” (i.e., the offsetting of the same subsidy twice) arose from such concurrent duties.

Between February 2015 and April 2015, the Department issued questionnaires to certain respondents in the underlying investigations and administrative review, concerning the issue of double remedies. Between May 2015, and June 2015, the Department issued the preliminary determinations in these section 129 proceedings and provided interested parties an opportunity to comment. Following the comment period, the Department issued its final determinations for the section 129 proceedings between July 14, 2015, and July 31, 2015.

In its August 4, 2015 letter, the USTR notified the Department that, consistent with section 129(b)(3) of the URAA, consultations with the Department and the appropriate congressional committees with respect to the final determinations have been completed. Also on August 4 2015, in accordance with section 129(b)(4) of the URAA, the USTR directed the Department to implement these determinations.

Nature of the Proceedings

Section 129 of the URAA governs the nature and effect of determinations issued by the Department to implement findings by WTO dispute settlement panels and the Appellate Body.

Specifically, section 129(b)(2) of the URAA provides that “notwithstanding any provision of the Tariff Act of 1930,” upon a written request from the USTR, the Department shall issue a determination that would render its actions not inconsistent with an adverse finding of a WTO panel or the Appellate Body.² The Statement of Administrative Action, U.R.A.A., H. Doc. 316, Vol. 1, 103d Cong. (1994) (SAA), variously refers to such a determination by the Department as a “new,” “second,” and “different” determination.³ After consulting with the Department and the appropriate congressional committees, the USTR may direct the Department to implement, in whole or in part, the new determination made under section 129 of the URAA.⁴ Pursuant to section 129(c) of the URAA, the new determination shall apply with respect to unliquidated entries of the subject merchandise that are entered or withdrawn from warehouse, for consumption, on or after the date on which the USTR directs the Department to implement the new determination.⁵ The new determination is subject to judicial review, separate and apart from judicial review of the Department's original determination.⁶

² See 19 U.S.C. 3538(b)(2).

³ See SAA at 1025, 1027.

⁴ See 19 U.S.C. 3538(b)(4).

⁵ See 19 U.S.C. 3538(c).

⁶ See 19 U.S.C. 1516a(a)(2)(B)(vii).

Final Determinations: Analysis of Comments Received

To the extent that issues were raised by interested parties during the period for comment following the issuance of the preliminary determinations, those issues are addressed in the respective final determinations. The final determinations are public documents and are available to the public via Enforcement and Compliance's Antidumping and Countervailing Duty Centralized Electronic Service System (ACCESS). ACCESS is available to registered users at https://access.trade.gov, and is available to all parties in the Central Records Unit, room B8024 of the main Department of Commerce building. In addition, complete versions of the final determinations can be accessed directly on the Internet at http://enforcement.trade.gov/download/section129/full-129-index.html. The signed versions of the final determinations and the electronic versions of the final determinations are identical in content.

Final Antidumping Duty Margins

The AD rates, as included in the final determinations are as follows:

⁷ Consistent with our practice, where the product was also subject to a concurrent countervailing duty proceeding, the weighted-average margins listed here reflect a deduction for the countervailing duty determined to constitute an export subsidy.

⁸ Consistent with our practice, where the product was also subject to a concurrent countervailing duty proceeding, the weighted-average margins listed here reflect a deduction for the countervailing duty determined to constitute an export subsidy.

⁹ Consistent with our practice, where the product was also subject to a concurrent countervailing duty proceeding, the weighted-average margins listed here reflect a deduction for the countervailing duty determined to constitute an export subsidy.

¹⁰ The countervailing duty margins calculated in the concurrent countervailing duty investigation did not consist of any countervailing duty determined to constitute export subsidies.

Citric Acid and Citrate Salts From the People's Republic of China
[AD review]
Exporter | Weighted-average margin (percent) ⁷
RZBC Co., Ltd., RZBC Import & Export Co., Ltd., and RZBC (Juxian) Co, Ltd | 0.00
Yixing Union Biochemical Co., Ltd | 1.01

Certain Coated Paper Suitable for High-Quality Print Graphics Using Sheet-Fed Presses From the People's Republic of China
[AD investigation]
Exporter | Producer | Weighted- average margin (percent) ⁸
Gold East Paper (Jiangsu) Co., Ltd.; Gold Huasheng Paper Co., Ltd.; Ningbo Zhonghua Paper Co., Ltd.; Ningbo Asia Pulp and Paper Co., Ltd.; Gold East (Hong Kong) Trading Co., Ltd | Gold East Paper (Jiangsu) Co., Ltd.; Gold Huasheng Paper Co., Ltd.; Ningbo Zhonghua Paper Co., Ltd.; Ningbo Asia Pulp and Paper Co., Ltd | 7.62
Shandong Chenming Paper Holdings Ltd | Shandong Chenming Paper Holdings Ltd | 7.62
PRC-wide Entity * |  | 135.83
* Includes: Shandong Sun Paper Industry Joint Stock Co., Ltd., Yanzhou Tianzhang Paper Industry Co., Ltd., Shandong International Paper and Sun Coated Paperboard Co., Ltd., International Paper and Sun Cartonboard Co., Ltd. (collectively, Sun Paper).

Seamless Carbon and Alloy Steel Standard, Line, and Pressure Pipe From the People's Republic of China
[AD investigation]
Exporter | Producer | Weighted- average dumping margin (percent) | Margin adjusted for export subsidies (percent) ⁹
Tianjin Pipe International Economic and Trading Corporation | Tianjin Pipe (Group) Corporation | 50.01 | 49.93
Hengyang Steel Tube Group International Trading Inc | Hengyang Valin Steel Tube Co., Ltd | 82.24 | 80.12
Hengyang Steel Tube Group International Trading Inc | Hengyang Valin MPM Tube Co., Ltd | 82.24 | 80.12
Xigang Seamless Steel Tube Co., Ltd | Xigang Seamless Steel Tube Co., Ltd. and Wuxi Seamless Special Pipe Co., Ltd | 66.13 | 65.03
Jiangyin City Changjiang Steel Pipe Co., Ltd | Jiangyin City Changjiang Steel Pipe Co., Ltd | 66.13 | 65.03
Pangang Group Chengdu Iron & Steel Co., Ltd | Pangang Group Chengdu Iron & Steel Co., Ltd | 66.13 | 65.03
Yangzhou Lontrin Steel Tube Co., Ltd | Yangzhou Lontrin Steel Tube Co., Ltd | 66.13 | 65.03
Yangzhou Chengde Steel Tube Co., Ltd | Yangzhou Chengde Steel Tube Co., Ltd | 66.13 | 65.03
PRC-wide Entity | 98.74 | 98.74

High Pressure Steel Cylinders From the People's Republic of China
[AD investigation]
Exporter | Producer | Weighted- average dumping margin (percent) ¹⁰
Beijing Tianhai Industry Co., Ltd | Beijing Tianhai Industry Co., Ltd | 6.62
Beijing Tianhai Industry Co., Ltd | Tianjin Tianhai High Pressure Container Co., Ltd | 6.62
Beijing Tianhai Industry Co., Ltd | Langfang Tianhai High Pressure Container Co., Ltd | 6.62
Shanghai J.S.X. International Trading Corporation | Shanghai High Pressure Special Gas Cylinder Co., Ltd | 6.62
Zhejiang Jindun Pressure Vessel Co., Ltd | Zhejiang Jindun Pressure Vessel Co., Ltd | 6.62
Shijiazhuang Enric Gas Equipment Co., Ltd | Shijiazhuang Enric Gas Equipment Co., Ltd | 6.62
PRC-wide Rate * |  | 31.21
* Includes: Shanghai High Pressure Container Co., Ltd.; Heibei Baigong Industrial Co., Ltd.; Nanjing Ocean High-Pressure Vessel Co., Ltd.; Qingdao Baigong Industrial and Trading Co., Ltd.; Shandong Huachen High Pressure Vessel Co., Ltd.; Shandong Province Building High Pressure Vessel Limited Company; Sichuan Mingchuan Chengyu Co., Ltd.; and Zhuolu High Pressure Vessel Co., Ltd.

¹¹ The countervailing duty margins calculated in the concurrent countervailing duty investigation did not consist of any countervailing duty determined to constitute export subsidies.

Multilayered Wood Flooring From the People's Republic of China
[AD Investigation]
Exporter | Producer | Weighted- average dumping margin (percent) ¹¹
Zhejiang Layo Wood Industry Co., Ltd | Zhejiang Layo Wood Industry Co., Ltd | * 0.00
The Samling Group ** | The Samling Group ** | * 0.00
Zhejiang Yuhua Timber Co., Ltd | Zhejiang Yuhua Timber Co., Ltd | * 0.00
Jiaxing Brilliant Import & Export Co., Ltd | Zhejiang Layo Wood Industry Co., Ltd | 3.30
MuDanJiang Bosen Wood Industry Co., Ltd | MuDanJiang Bosen Wood Industry Co., Ltd | 3.30
MuDanJiang Bosen Wood Industry Co., Ltd | Dun Hua Sen Tai Wood Co., Ltd | 3.30
Huzhou Chenghang Wood Co., Ltd | Huzhou Chenghang Wood Co., Ltd | 3.30
Hangzhou Hanje Tec Co., Ltd | Zhejiang Jiechen Wood Industry Co., Ltd | 3.30
Nakahiro Jyou Sei Furniture (Dalian) Co., Ltd | Nakahiro Jyou Sei Furniture (Dalian) Co., Ltd | 3.30
Shenyang Haobainian Wooden Co., Ltd | Shenyang Sende Wood Co., Ltd | 3.30
Shenyang Haobainian Wooden Co., Ltd | Shenyang Haobainian Wooden Co., Ltd | 3.30
Shenyang Haobainian Wooden Co., Ltd | Shanghai Demeijia Wooden Co., Ltd | 3.30
Dalian Dajen Wood Co., Ltd | Dalian Dajen Wood Co., Ltd | 3.30
HaiLin LinJing Wooden Products, Ltd | HaiLin LinJing Wooden Products, Ltd | 3.30
Dun Hua Sen Tai Wood Co., Ltd | Dun Hua Sen Tai Wood Co., Ltd | 3.30
Dunhua Jisheng Wood Industry Co., Ltd | Dunhua Jisheng Wood Industry Co., Ltd | 3.30
Hunchun Forest Wolf Industry Co., Ltd | Hunchun Forest Wolf Industry Co., Ltd | 3.30
Guangzhou Panyu Southern Star Co., Ltd | Guangzhou Jiasheng Timber Industry Co., Ltd | 3.30
Nanjing Minglin Wooden Industry Co., Ltd | Nanjing Minglin Wooden Industry Co., Ltd | 3.30
Zhejiang Fudeli Timber Industry Co., Ltd | Zhejiang Fudeli Timber Industry Co., Ltd | 3.30
Suzhou Dongda Wood Co., Ltd | Suzhou Dongda Wood Co., Ltd | 3.30
Guangzhou Pan Yu Kang Da Board Co., Ltd | Guangzhou Pan Yu Kang Da Board Co., Ltd | 3.30
Kornbest Enterprises Ltd | Guangzhou Pan Yu Kang Da Board Co., Ltd | 3.30
Metropolitan Hardwood Floors, Inc. | Dalian Huilong Wooden Products Co., Ltd | 3.30
Metropolitan Hardwood Floors, Inc. | Mudanjiang Bosen Wood Co., Ltd | 3.30
Metropolitan Hardwood Floors, Inc. | Nakahiro Jyou Sei Furniture (Dalian) Co., Ltd | 3.30
Metropolitan Hardwood Floors, Inc. | Hunchun Forest Wolf Wooden Industry Co., Ltd | 3.30
Metropolitan Hardwood Floors, Inc. | Kemian Wood Industry (Kunshan) Co., Ltd | 3.30
Metropolitan Hardwood Floors, Inc. | Shenyang Haobainian Wooden Co., Ltd | 3.30
Zhejiang Longsen Lumbering Co., Ltd | Zhejiang Longsen Lumbering Co., Ltd | 3.30
Xinyuan Wooden Industry Co., Ltd | Xinyuan Wooden Industry Co., Ltd | 3.30
Dasso Industrial Group Co., Ltd | Dasso Industrial Group Co., Ltd | 3.30
Hong Kong Easoon Wood Technology Co., Ltd | Dasso Industrial Group Co., Ltd | 3.30
Armstrong Wood Products (Kunshan) Co., Ltd | Armstrong Wood Products (Kunshan) Co., Ltd | 3.30
Baishan Huafeng Wooden Product Co., Ltd | Baishan Huafeng Wooden Product Co., Ltd | 3.30
Changbai Mountain Development and Protection Zone Hongtu Wood Industry Co., Ltd | Changbai Mountain Development and Protection Zone Hongtu Wood Industry Co., Ltd | 3.30
Changzhou Hawd Flooring Co., Ltd | Changzhou Hawd Flooring Co., Ltd | 3.30
Dalian Jiuyuan Wood Industry Co., Ltd | Dalian Jiuyuan Wood Industry Co., Ltd | 3.30
Dalian Penghong Floor Products Co., Ltd | Dalian Penghong Floor Products Co., Ltd | 3.30
Dongtai Fuan Universal Dynamics LLC | Dongtai Fuan Universal Dynamics LLC | 3.30
Dunhua City Dexin Wood Industry Co., Ltd | Dunhua City Dexin Wood Industry Co., Ltd | 3.30
Dunhua City Hongyuan Wood Industry Co., Ltd | Dunhua City Hongyuan Wood Industry Co., Ltd | 3.30
Dunhua City Jisen Wood Industry Co., Ltd | Dunhua City Jisen Wood Industry Co., Ltd | 3.30
Dunhua City Wanrong Wood Industry Co., Ltd | Dunhua City Wanrong Wood Industry Co., Ltd | 3.30
Fusong Jinlong Wooden Group Co., Ltd | Fusong Jinlong Wooden Group Co., Ltd | 3.30
Fusong Qianqiu Wooden Product Co., Ltd | Fusong Qianqiu Wooden Product Co., Ltd | 3.30
GTP International | Jiangsu Senmao Bamboo and Wood Industry Co., Ltd | 3.30
GTP International | Jiafeng Wood (Suzhou) Co., Ltd | 3.30
GTP International | Suzhou Dongda Wood Co., Ltd | 3.30
GTP International | Kemian Wood Industry (Kunshan) Co., Ltd | 3.30
Guangdong Yihua Timber Industry Co., Ltd | Guangdong Yihua Timber Industry Co., Ltd | 3.30
HaiLin LinJing Wooden Products, Ltd | HaiLin LinJing Wooden Products, Ltd | 3.30
Huzhou Fulinmen Imp & Exp. Co., Ltd | Huzhou Fulinmen Wood Floor Co., Ltd | 3.30
Huzhou Fuma Wood Bus. Co., Ltd | Huzhou Fuma Wood Bus. Co., Ltd | 3.30
Jiafeng Wood (Suzhou) Co., Ltd | Jiafeng Wood (Suzhou) Co., Ltd | 3.30
Jiashan Hui Jia Le Decoration Material Co., Ltd | Jiashan Hui Jia Le Decoration Material Co., Ltd | 3.30
Jilin Forest Industry Jinqiao Flooring Group Co., Ltd | Jilin Forest Industry Jinqiao Flooring Group Co., Ltd | 3.30
Karly Wood Product Limited | Karly Wood Product Limited | 3.30
Kunshan Yingyi-Nature Wood Industry Co., Ltd | Kunshan Yingyi-Nature Wood Industry Co., Ltd | 3.30
Puli Trading Ltd | Baiying Furniture Manufacturer Co., Ltd | 3.30
Shanghai Eswell Timber Co. Ltd | Shanghai Eswell Timber Co. Ltd | 3.30
Shanghai Lairunde Wood Co., Ltd | Shanghai Lairunde Wood Co., Ltd | 3.30
Shanghai New Sihe Wood Co., Ltd | Shanghai New Sihe Wood Co., Ltd | 3.30
Shanghai Shenlin Corporation | Shanghai Shenlin Corporation | 3.30
Shenzhenshi Huanwei Woods Co., Ltd | Shenzhenshi Huanwei Woods Co., Ltd | 3.30
Tak Wah Building Material (Suzhou) Co. Ltd | Vicwood Industry (Suzhou) Co., Ltd | 3.30
Tech Wood International Ltd | Vicwood Industry (Suzhou) Co., Ltd | 3.30
Xiamen Yung De Ornament Co., Ltd | Xiamen Yung De Ornament Co., Ltd | 3.30
Xuzhou Shenghe Wood Co., Ltd | Xuzhou Shenghe Wood Co., Ltd | 3.30
Yixing Lion-King Timber Industry Co., Ltd | Yixing Lion-King Timber Industry Co., Ltd | 3.30
Jiangsu Simba Flooring Industry Co., Ltd | Yixing Lion-King Timber Industry Co., Ltd | 3.30
Zhejiang Biyork Wood Co., Ltd | Zhejiang Biyork Wood Co., Ltd | 3.30
Zhejiang Dadongwu GreenHome Wood Co., Ltd | Zhejiang Dadongwu GreenHome Wood Co., Ltd | 3.30
Zhejiang Desheng Wood Industry Co., Ltd | Zhejiang Desheng Wood Industry Co., Ltd | 3.30
Zhejiang Shiyou Timber Co., Ltd | Zhejiang Shiyou Timber Co., Ltd | 3.30
Zhejiang Tianzhen Bamboo & Wood Development Co., Ltd | Zhejiang Tianzhen Bamboo & Wood Development Co., Ltd | 3.30
Chinafloors Timber (China) Co. Ltd | Chinafloors Timber (China) Co. Ltd | 3.30
Shanghai Lizhong Wood Products Co., Ltd, also known as The Lizhong Wood Industry Limited Company of Shanghai | Shanghai Lizhong Wood Products Co., Ltd, also known as The Lizhong Wood Industry Limited Company of Shanghai | 3.30
Fine Furniture (Shanghai) Limited | Fine Furniture (Shanghai) Limited | 3.30
Huzhou Sunergy World Trade Co. Ltd | Zhejiang Haoyun Wood Co., Ltd | 3.30
Huzhou Sunergy World Trade Co. Ltd | Nanjing Minglin Wooden Industry Co., Ltd | 3.30
Huzhou Sunergy World Trade Co. Ltd | Zhejiang AnJi XinFeng Bamboo & Wood Co., Ltd | 3.30
Huzhou Jesonwood Co., Ltd | Zhejiang Jeson Wood Co., Ltd | 3.30
Huzhou Jesonwood Co., Ltd | Huzhou Jesonwood Co., Ltd | 3.30
A&W (Shanghai) Woods Co., Ltd | A&W (Shanghai) Woods Co., Ltd | 3.30
A&W (Shanghai) Woods Co., Ltd | Suzhou Anxin Weiguang Timber Co., Ltd | 3.30
Fu Lik Timber (HK) Company Limited | Guangdong Fu Lin Timber Technology Limited | 3.30
Yekalon Industry, Inc./Sennorwell International Group (Hong Kong) Limited | Jilin Xinyuan Wooden Industry Co., Ltd | 3.30
Kemian Wood Industry (Kunshan) Co., Ltd | Kemian Wood Industry (Kunshan) Co., Ltd | 3.30
Dalian Kemian Wood Industry Co., Ltd | Dalian Kemian Wood Industry Co., Ltd | 3.30
Dalian Huilong Wooden Products Co., Ltd | Dalian Huilong Wooden Products Co., Ltd | 3.30
Jiangsu Senmao Bamboo and Wood Industry Co., Ltd | Jiangsu Senmao Bamboo and Wood Industry Co., Ltd | 3.30
PRC-wide Entity |  | 58.84

Certain Crystalline Silicon Photovoltaic Cells, Whether or Not Assembled Into Modules, From the People's Republic of China
[AD investigation]
Exporter | Producer | Previous weighted average dumping margin (percent) ¹² | Previous cash deposit rate adjusted for export subsidies (percent) | Revised AD cash deposit rate adjusted for double remedies (percent)
Changzhou Trina Solar Energy Co., Ltd |  | 18.32 | 7.78 | 6.68
Wuxi Suntech Power Co., Ltd |  | 29.14 | 18.60 | 18.06
Separate Rates (list) |  | 24.48 | 13.94 | 13.18
Changzhou Trina Solar Energy Co., Ltd. and Trina Solar (Changzhou) Science & Technology Co., Ltd | Changzhou Trina Solar Energy Co., Ltd | 24.48 | 13.94 | 13.18
| Trina Solar (Changzhou) Science & Technology Co., Ltd | 24.48 | 13.94 | 13.18
Wuxi Suntech Power Co., Ltd., Luoyang Suntech Power Co., Ltd., Suntech Power Co., Ltd. and Wuxi Sun-shine Power Co., Ltd | Wuxi Suntech Power Co., Ltd | 24.48 | 13.94 | 13.18
| Luoyang Suntech Power Co., Ltd | 24.48 | 13.94 | 13.18
| Suntech Power Co., Ltd | 24.48 | 13.94 | 13.18
| Wuxi Sun-shine Power Co., Ltd | 24.48 | 13.94 | 24.48
Baoding Tianwei Yingli New Energy Resources Co., Ltd | Baoding Tianwei Yingli New Energy Resources Co., Ltd | 24.48 | 13.94 | 13.18
| Yingli Energy (China) Company Limited | 24.48 | 13.94 | 13.18
Tianwei New Energy (Chengdu) PV Module Co., Ltd | Tianwei New Energy (Chengdu) PV Module Co., Ltd | 24.48 | 13.94 | 13.18
Canadian Solar International Limited | Canadian Solar Manufacturing (Changshu) Inc | 24.48 | 13.94 | 13.18
| Canadian Solar Manufacturing (Luoyang) Inc | 24.48 | 13.94 | 13.18
Canadian Solar Manufacturing (Changshu) Inc | Canadian Solar Manufacturing (Changshu), Inc | 24.48 | 13.94 | 13.18
Canadian Solar Manufacturing (Luoyang) Inc | Canadian Solar Manufacturing (Luoyang), Inc | 24.48 | 13.94 | 13.18
Hanwha Solarone (Qidong) Co., Ltd | Hanwha Solarone (Qidong) Co., Ltd | 24.48 | 13.94 | 13.18
CEEG (Shanghai) Solar Science Technology Co., Ltd | CEEG (Shanghai) Solar Science Technology Co., Ltd | 24.48 | 13.94 | 13.18
| CEEG Nanjing Renewable Energy Co., Ltd | 24.48 | 13.94 | 13.18
CEEG Nanjing Renewable Energy Co., Ltd | CEEG Nanjing Renewable Energy Co., Ltd | 24.48 | 13.94 | 13.18
Jiawei Solarchina Co., Ltd | Jiawei Solarchina (Shenzhen) Co., Ltd | 24.48 | 13.94 | 13.18
Yingli Energy (China) Company Limited | Yingli Energy (China) Company Limited | 24.48 | 13.94 | 13.18
| Baoding Tianwei Yingli New Energy Resources Co., Ltd | 24.48 | 13.94 | 13.18
LDK Solar Hi-tech (Nanchang) Co., Ltd | LDK Solar Hi-tech (Nanchang) Co., Ltd | 24.48 | 13.94 | 13.18
LDK Solar Hi-tech (Suzhou) Co., Ltd | LDK Solar Hi-tech (Suzhou) Co., Ltd | 24.48 | 13.94 | 13.18
Jiawei Solarchina (Shenzhen) Co., Ltd | Jiawei Solarchina (Shenzhen) Co., Ltd | 24.48 | 13.94 | 13.18
Changzhou NESL Solartech Co., Ltd | Changzhou NESL Solartech Co., Ltd | 24.48 | 13.94 | 13.18
China Sunergy (Nanjing) Co., Ltd | China Sunergy (Nanjing) Co., Ltd | 24.48 | 13.94 | 13.18
Chint Solar (Zhejiang) Co., Ltd | Chint Solar (Zhejiang) Co., Ltd | 24.48 | 13.94 | 13.18
Suzhou Shenglong PV-Tech Co., Ltd | Suzhou Shenglong PV-TECH Co., Ltd | 24.48 | 13.94 | 13.18
tenKsolar (Shanghai) Co., Ltd | tenKsolar (Shanghai) Co., Ltd | 24.48 | 13.94 | 13.18
Upsolar Group, Co., Ltd | HC Solar Power Co., Ltd | 24.48 | 13.94 | 13.18
| Zhiheng Solar Inc | 24.48 | 13.94 | 13.18
| Zhejiang Leye Photovoltaic Science & Technology Co., Ltd | 24.48 | 13.94 | 13.18
| Tianwei New Energy (Chengdu) PV Module Co., Ltd | 24.48 | 13.94 | 13.18
| Zhejiang ZG-Cells Co., Ltd | 24.48 | 13.94 | 13.18
| Zhejiang Xinshun Guangfu Science and Technology Co., Ltd | 24.48 | 13.94 | 13.18
| Zhejiang Jiutai New Energy Co., Ltd | 24.48 | 13.94 | 13.18
Wanxiang Import & Export Co., Ltd | Zhejiang Wanxiang Solar Co., Ltd | 24.48 | 13.94 | 13.18
Jinko Solar Import and Export Co., Ltd | Jinko Solar Co., Ltd | 24.48 | 13.94 | 13.18
JinkoSolar International Limited | Jinko Solar Co., Ltd | 24.48 | 13.94 | 13.18
CNPV Dongying Solar Power Co., Ltd | CNPV Dongying Solar Power Co., LTD | 24.48 | 13.94 | 13.18
CSG PVTech Co., Ltd | CSG PVTech Co., Ltd | 24.48 | 13.94 | 13.18
Delsolar Co., Ltd | DelSolar (Wujiang) Ltd | 24.48 | 13.94 | 13.18
Dongfang Electric (Yixing) MAGI Solar Power Technology Co., Ltd | Dongfang Electric (Yixing) MAGl Solar Power Technology Co., Ltd | 24.48 | 13.94 | 13.18
Eoplly New Energy Technology Co., Ltd | Eoplly New Energy Technology Co., Ltd | 24.48 | 13.94 | 13.18
ERA Solar Co., Ltd | ERA Solar Co., Ltd | 24.48 | 13.94 | 13.18
ET Solar Energy Limited | ET Solar Industry Limited | 24.48 | 13.94 | 13.18
Hangzhou Zhejiang University Sunny Energy Science and Technology Co., Ltd | Hangzhou Zhejiang University Sunny Energy Science and Technology Co., Ltd | 24.48 | 13.94 | 13.18
Himin Clean Energy Holdings Co., Ltd | Himin Clean Energy Holdings Co., Ltd | 24.48 | 13.94 | 13.18
JA Solar Technology Yangzhou Co., Ltd | JingAo Solar Co., Ltd | 24.48 | 13.94 | 13.18
Jetion Solar (China) Co., Ltd | Jetion Solar (China) Co., Ltd | 24.48 | 13.94 | 13.18
Jiangsu Green Power PV Co., Ltd | Jiangsu Green Power PV Co., Ltd | 24.48 | 13.94 | 13.18
Jiangsu Sunlink PV Technology Co., Ltd | Jiangsu Sunlink PV Technology Co., Ltd | 24.48 | 13.94 | 13.18
JingAo Solar Co., Ltd | JingAo Solar Co., Ltd | 24.48 | 13.94 | 13.18
Konca Solar Cell Co., Ltd | Konca Solar Cell Co., Ltd | 24.48 | 13.94 | 13.18
Leye Photovoltaic Co., Ltd | Leye Photovoltaic Co., Ltd | 24.48 | 13.94 | 13.18
Lightway Green New Energy Co., Ltd | Lightway Green New Energy Co., Ltd | 24.48 | 13.94 | 13.18
Motech (Suzhou) Renewable Energy Co., Ltd | Motech (Suzhou) Renewable Energy Co., Ltd | 24.48 | 13.94 | 13.18
Ningbo ETDZ Holdings, Ltd | Hangzhou Zhejiang University Sunny Energy Science and Technology Co., LTD | 24.48 | 13.94 | 13.18
Ningbo Komaes Solar Technology Co., Ltd | Ningbo Komaes Solar Technology Co., Ltd | 24.48 | 13.94 | 13.18
Ningbo Qixin Solar Electrical Appliance Co., Ltd | Ningbo Qixin Solar Electrical Appliance Co., Ltd | 24.48 | 13.94 | 13.18
Ningbo Ulica Solar Science & Technology Co., Ltd | Ningbo Ulica Solar Science & Technology Co., Ltd | 24.48 | 13.94 | 13.18
Perlight Solar Co., Ltd | Perlight Solar Co., Ltd | 24.48 | 13.94 | 13.18
Risen Energy Co., Ltd | Risen Energy Co., Ltd | 24.48 | 13.94 | 13.18
Shanghai BYD Company Limited | Shanghai BYD Company Limited | 24.48 | 13.94 | 13.18
Shanghai JA Solar Technology Co., Ltd | Shanghai JA Solar Technology Co., Ltd | 24.48 | 13.94 | 13.18
Shanghai Solar Energy Science & Technology Co., Ltd | Shanghai Solar Energy Science & Technology Co., Ltd | 24.48 | 13.94 | 13.18
Shenzhen Topray Solar Co., Ltd | Shenzhen Topray Solar Co., Ltd | 24.48 | 13.94 | 13.18
Solarbest Energy-Tech (Zhejiang) Co., Ltd | Solarbest Energy-Tech (Zhejiang) Co., Ltd | 24.48 | 13.94 | 13.18
Sopray Energy Co., Ltd | Sopray Energy Co., Ltd | 24.48 | 13.94 | 13.18
Sumec Hardware & Tools Co., Ltd | Phono Solar Technology Co., Ltd | 24.48 | 13.94 | 13.18
Sun Earth Solar Power Co., Ltd | Sun Earth Solar Power Co., Ltd | 24.48 | 13.94 | 13.18
Yuhuan Sinosola Science & Technology Co., Ltd | Yuhuan Sinosola Science & Technology Co., Ltd | 24.48 | 13.94 | 13.18
Yuhuan Solar Energy Source Co., Ltd | Yuhuan Solar Energy Source Co., Ltd | 24.48 | 13.94 | 13.18
Zhejiang Jiutai New Energy Co., Ltd | Zhejiang Topoint Photovoltaic Co., Ltd | 24.48 | 13.94 | 13.18
Zhejiang Shuqimeng Photovoltaic Technology Co., Ltd | Zhejiang Shuqimeng Photovoltaic Technology Co., Ltd | 24.48 | 13.94 | 13.18
Zhejiang Sunflower Light Energy Science & Technology Limited Liability Company | Zhejiang Sunflower Light Energy Science & Technology Limited Liability Company | 24.48 | 13.94 | 13.18
PRC-wide Rate |  | 249.96 | 239.42 | 238.88
¹² The calculated margins in the underlying investigation were not adjusted to reflect a deduction for any countervailing duty determined to constitute export subsidies. Rather, consistent with Department practice, we adjust the cash deposit rates for export and domestic subsidy offsets to the extent appropriate. Both domestic subsidy and export subsidy adjustments are reflected under “Revised AD Cash Deposit Rate Adjusted for Double Remedies.”

Utility Scale Wind Towers From the People's Republic of China
[AD investigation]
Exporter | Producer | Weighted- average margin (percent) ¹³
Chengxi Shipyard Co., Ltd | Chengxi Shipyard Co., Ltd | 36.98
Titan Wind Energy (Suzhou) Co., Ltd | Titan (Lianyungang) Metal Product Co., Ltd | 34.33
Titan Wind Energy (Suzhou) Co., Ltd | Titan Wind Energy (Suzhou) Co., Ltd | 34.33
CS Wind Corporation | CS Wind China Co., Ltd | 35.81
Guodian United Power Technology Baoding Co., Ltd | Guodian United Power Technology Baoding Co., Ltd | 35.77
Sinovel Wind Group Co., Ltd | Qiangsheng Wind Equipment Co., Ltd | 35.77
PRC-wide Entity |  | 60.02
¹³ Consistent with our practice, where the product was also subject to a concurrent countervailing duty proceeding, the weighted-average margins listed here reflect a deduction for the countervailing duty determined to constitute an export subsidy.

Implementation of the Revised Cash Deposit Requirements

On August 4, 2015, in accordance with sections 129(b)(4) and 129(c)(1)(B) of the URAA and after consulting with the Department and Congress, the USTR directed the Department to implement these final determinations. With respect to each of these proceedings, unless the applicable cash deposit rate has been superseded by intervening administrative reviews, the Department will instruct U.S. Customs and Border Protection to require a cash deposit for estimated ADs at the appropriate rate for each exporter/producer specified above, for entries of subject merchandise, entered or withdrawn from warehouse, for consumption, on or after August 4, 2015.

This notice of implementation of these section 129 final determinations is published in accordance with section 129(c)(2)(A) of the URAA.

Dated: August 7, 2015.
Ronald K. Lorentzen,
Acting Assistant Secretary for Enforcement and Compliance.

[FR Doc. 2015-20085 Filed 8-13-15; 8:45 am]

BILLING CODE P